DEPARTMENT OF AGRICULTURE

Rural Housing Service

Notice of Funding Availability: Rural Development Voucher Program

AGENCY: Rural Housing Service, USDA.

ACTION: Notice; Correction.

SUMMARY: The Rural Housing Service published a document in the Federal Register on April 14, 2010, announcing the funding available for the Rural Development Voucher Program. A correction to the document is needed to clarify what documentation is required for proof of citizenship and to correct the median income hyperlink.

FOR FURTHER INFORMATION CONTACT: Stephanie B.M. White, Director, Multi-Family Housing Portfolio Management Division, Rural Development, U.S. Department of Agriculture, 1400 Independence Avenue, SW., STOP 0782, Washington, DC 20250-0782, telephone (202) 720-1615. Persons with hearing or speech impairments may access this number via TDD by calling the toll-free Federal Information Relay Service at 800-877-8339.

Correction

In the Federal Register of Wednesday, April 14, 2010, Vol. 75, No. 71, page 19354 in the second column, is corrected to read: (c) As required by section 214 of the Housing and Community Development Act of 1980 [42 U.S.C. § 1436a] the tenant must be a United States citizen, United States non-citizen national or qualified alien. (1) For each family member who contends that he or she is a U.S. citizen or a noncitizen with eligible immigration status, the family must submit to Rural Development a written declaration, signed under penalty of perjury, by which the family member declares whether he or she is a U.S. citizen or a noncitizen with eligible immigration status. (i) For each adult, the declaration must be signed by the adult. (ii) For each child, the declaration must be signed by an adult residing in the assisted dwelling unit who is responsible for the child. Each family member, regardless of age, must submit the following evidence to the responsible entity. (1) For citizens, the evidence consists of a signed declaration of U.S. citizenship. Rural Development may request verification of the declaration by requiring presentation of a United States passport, social security card, or other appropriate documentation. (2) For noncitizens who are 62 years of age or older, the evidence consists of: (i) A signed declaration of eligible immigration status; and (ii) Proof of age document. (3) For all other noncitizens, the evidence consists of: (i) A signed declaration of eligible immigration status; (ii) alien registration documentation or other proof of immigration registration from the Immigration and Naturalization Service (INS) that contains the individual's alien admission number or alien file number; and (iii) a signed verification consent form, which provides that evidence of eligible immigration status may be released to Rural Development and INS for purposes of verifying the immigration status of the individual. Rural Development shall provide a reasonable opportunity, not to exceed 30 days, to submit evidence indicating a satisfactory immigration status, or to appeal to the Immigration and Naturalization Service the verification determination of the Immigration and Naturalization Service; and;

Correction

In the Federal Register of Wednesday, April 14, 2010, Vol. 75, No. 71, page 19354 in the third column is updated to read: (d) The family must be a low-income family on the date of the prepayment or foreclosure. A low-income family is a family whose annual income does not exceed 80 percent of the family median income for the area as defined by HUD. HUD's definition of median income can be found at http://www.huduser.org/portal/datasets/il/il10/index_mfi.html.

Dated: August 17, 2010.
Kathy McEntee,
Acting Administrator, Housing and Community Facilities Programs.

[FR Doc. 2010-21072 Filed 8-24-10; 8:45 am]

BILLING CODE 3410-XV-P